DEPARTMENT OF COMMERCE

International Trade Administration

[A-580-812]

Dynamic Random Access Memory Semiconductors (“DRAMs”) of One Megabit and Above From the Republic of Korea; Final Results of Full Sunset Review and Revocation of Order

AGENCY: Import Administration, International Trade Administration, Department of Commerce.

ACTION: Notice of final results of full sunset review: Revocation of antidumping duty order on DRAMs of one megabit and above from the Republic of Korea.

SUMMARY: On May 30, 2000, the Department of Commerce (“the Department”) published a notice of preliminary results of the full sunset review of the antidumping duty order on DRAMs of one megabit and above from the Republic of Korea (65 FR 34439) pursuant to section 751(c) of the Tariff Act of 1930, as amended (“the Act”). We provided interested parties an opportunity to comment on our preliminary results. We received comments from both domestic and respondent interested parties. Subsequently, on September 27, 2000, we received a letter from the petitioner, Micron Technology, Inc. (“Micron”), withdrawing its notice of intent to participate in this sunset review, originally filed on November 16, 1999. Further, Micron withdrew its responses from this review and stated its support for revocation of the antidumping order on DRAMs of One Megabit and Above from the Republic of Korea (“DRAMs from Korea”). Because no domestic interested party is now participating in this sunset review, the Department is revoking the order.

EFFECTIVE DATE: October 5, 2000.

FOR FURTHER INFORMATION CONTACT: John P. Maloney, Jr. or James Maeder, Office of Policy for Import Administration, International Trade Administration, U.S. Department of Commerce, 14th Street and Constitution Avenue, NW, Washington, D.C. 20230; telephone: (202) 482-1503 or (202) 482-3330, respectively.

Statute and Regulations

This review was conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”), and in 19 CFR Part 351 (1999) in general.

Guidance on methodological or analytical issues relevant to the Department's conduct of sunset reviews is set forth in the Department's Policy Bulletin 98:3—Policies Regarding the Conduct of Five-year (“Sunset”) Reviews of Antidumping and Countervailing Duty Orders; Policy Bulletin, 63 FR 18871 (April 16, 1998) (“Sunset Policy Bulletin”).

Background

On May 30, 2000, the Department published in the Federal Register a notice of preliminary results of the full sunset review of the antidumping duty order on DRAMs of one megabit and above from the Republic of Korea pursuant to the Act. In our preliminary results, we determined that revocation of the order would be likely to lead to continuation or recurrence of dumping. In addition, we preliminarily determined that the following margins are likely to prevail for respective manufactures/exporters if the order were revoked: Hyundai—20.88 percent and All Others—4.55 percent.

On July 11, 2000, and on July 12, 2000, we received final versions of case briefs from Hyundai and Micron Technology, Inc. (“Micron”), respectively, within the deadline provided for in 19 CFR 351.309(c)(1)(i). Also, on July 17, 2000, and on July 18, 2000, Micron and Hyundai, respectively, submitted final versions of rebuttal briefs within the deadline provided for in 19 CFR 351.309(d). The Department held a public hearing on August 9, 2000. Subsequently, on September 27, 2000, Micron withdrew its interest in this sunset review and withdrew its responses from the record.

Scope of Review

The products covered by this review include DRAMs of one megabit and above from Korea. Assembled DRAMs include all package types. Unassembled DRAMs include processed wafers, uncut die, and cut die. Processed wafers produced in Korea, but packaged or assembled into memory modules in a third country, are included in the scope; wafers produced in a third country and assembled or packaged in Korea are not included in the scope.

The scope of this review includes memory modules. A memory module is a collection of DRAMs, the sole function of which is memory. Modules include single in-line processing modules (“SIPs”), single in-line memory modules (“SIMMs”), or other collections of DRAMs, whether unmounted or mounted on a circuit board. Modules that contain other parts that are needed to support the function of memory are covered. Only those modules which contain additional items which alter the function of the module to something other than memory, such as video graphics adapter (“VGA”) boards and cards, are not included in the scope.

The scope of this review also includes video random access memory semiconductors (“VRAMS”), as well as any future packaging and assembling of DRAMs, and removable memory modules placed on motherboards, with or without a central processing unit (“CPU”), unless the importer of motherboards certifies with the Customs Service that neither it nor a party related to it or under contract to it will remove the modules from the motherboards after importation. The scope of this review does not include DRAMs or memory modules that are re-imported for repair or replacement.

The DRAMs and modules subject to this review are classifiable under subheadings 8471.50.0085, 8471.91.8085, 8542.11.0024, 8542.11.8026, 8542.13.8034, 8471.50.4000, 8473.30.1000, 8542.11.0026, 8542.11.8034, 8471.50.8095, 8473.30.4000, 8542.11.0034, 8542.13.8005, 8471.91.0090, 8473.30.8000, 8542.11.8001, 8542.13.8024, 8471.91.4000, 8542.11.0001, 8542.11.8024 and 8542.13.8026 of the Harmonized Tariff Schedule of the United States (“HTSUS”).

Although the HTSUS subheadings are provided for convenience and customs purposes, the Department's written description of the scope of this review remains dispositive.

Final Results of Review

Determination To Revoke

Because it withdrew both its notice of intent to participate in this sunset review and its responses from the record, the Department now determines that Micron has not responded to the Notice of Initiation as set out in section 751(c) of the Act. Without responses from Micron or any other domestic interested party on the record of this sunset review, the Department no longer finds that revocation of the order would be likely to lead to the continuation of dumping.

In addition, the Department notes that Micron affirmatively supports revocation of the order in this sunset review. Given that the Department no longer finds that revocation of the order would be likely to lead to the continuation of dumping, pursuant to section 751(d)(2) of the Act and section 351.222(i)(1) of the Sunset Regulations, the Department hereby revokes the order on DRAMs from Korea.

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

This five-year (“sunset”) review and notice are in accordance with sections 751(c), 752, and 777(i)(1) of the Act.

Effective Date of Revocation

Pursuant to section 751(c)(6)(A)(iv) of the Act, the Department will instruct the United States to terminate the suspension of liquidation of the merchandise subject to this order entered, or withdrawn from warehouse, on or after January 1, 2000. Entries of subject merchandise prior to the effective date of revocation will continue to be subject to suspension of liquidation and antidumping duty deposit requirements. The Department will complete any pending administrative reviews of this order and will conduct administrative reviews of subject merchandise entered prior to the effective date of revocation in response to appropriately filed request for review.

Dated: September 29, 2000.
Troy H. Cribb,
Acting Assistant Secretary for Import Administration.

[FR Doc. 00-25618 Filed 10-4-00; 8:45 am]

BILLING CODE 3510-DS-P